ENVIRONMENTAL PROTECTION AGENCY

[FRL-7376-3]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS), 40 CFR part 60; the National Emission Standards for Hazardous Air Pollutants (NESHAP), 40 CFR parts 61 and 63; and the Stratospheric Ozone Protection Program, 40 CFR part 82.

FOR FURTHER INFORMATION CONTACT: An electronic copy of each complete document posted on the Applicability Determination Index (ADI) database system is available on the Internet through the Office of Enforcement and Compliance Assurance (OECA) Web site at: http://www.epa.gov/compliance/assistance/applicability. The document may be located by date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and Clean Air Act section 111(d) regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 55 such documents added to the ADI between May 2002 and July 2002. The subject, author, recipient, date and header of each letter and memorandum are listed in this notice, as well as a brief abstract of the letter or memorandum. Complete copies of these documents may be obtained from the ADI through the OECA Web site at: http://www.epa.gov/compliance/assistance/applicability.

Summary of Headers and Abstracts

The following table identifies the database control number for each document posted on the ADI database system between May 2002 and July 2002; the applicable category; the subpart(s) of 40 CFR part 60, 61, or 63 (as applicable) covered by the document; and the title of the document which provides a brief description of the subject matter. We have also included an abstract of each document identified with its control number after the table. These abstracts are provided solely to alert the public to possible items of interest and are not intended as substitutes for the full text of the documents.

ADI Determinations Uploaded Between May 2002 and July 2002
Control No. | Category | Subpart | Title
M020003 | MACT | RRR | Opacity Monitoring Alternative.
M020004 | MACT | LLL | Performance Test Waiver and Alternative Monitoring.
0200002 | NSPS | WWW | Gas Extraction Well Operating Temperature Increase Requests.
0200003 | NSPS | Db | Duct Burner Applicability Determination.
0200004 | NSPS | G, A | Monitoring and Excess Emission Related Issues.
0200001 | NSPS | J, A | Alternative Monitoring for Bypass of Sulfur Recovery/Tail Gas Units.
0200005 | NSPS | Dc | Fuel Usage Recordkeeping.
0200006 | NSPS | GG | Alternative Method for Sulfur Analysis.
0200007 | NSPS | GG | Alternative Method for Sulfur Analysis.
0200008 | NSPS | NNN, A | Alternative Monitoring Approach.
0200009 | NSPS | BB | Alternative Monitoring Proposals.
0200010 | NSPS | GG, A | Initial Test Extension.
0200011 | NSPS | GG, A | Initial Test Extension.
0200012 | NSPS | OOO | Initial Notification and Report Submittal Requirements.
0200013 | NSPS | Da | Alternative SO2 Monitoring Proposal.
0200014 | NSPS | GG, A | Initial Test Extension.
0200015 | NSPS | GG, A | Initial Test Extension.
0200016 | NSPS | WWW, A | Alternative Monitoring Request for Landfill Gas Vent Flare.
0200017 | NSPS | RR | Applicability to Process Printing Machine.
0200018 | NSPS | GG | Alternative ASTM Test Method for Fuel Nitrogen Content.
0200019 | NSPS | WWW | Waiver of Initial Performance Test.
0200020 | NSPS | A | Drift Test Waiver.
0200021 | NSPS | GG | Custom Fuel Monitoring Schedule.
0200022 | NSPS | GG | Custom Fuel Monitoring Schedule.
0200023 | NSPS | GG | Alternative to ASTM Sulfur Content Test Method.
0200024 | NSPS | Da | Use of Part 75 Relative Accuracy Test Audits Procedures.
0200025 | NSPS | Cc, B | Part 62 Landfill Regulations and Superfund Sites.
0200026 | NSPS | GG | Alternative Test Methods for Monitoring Fuel Sulfur Content.
0200027 | NSPS | WWW | Tier 2 Emissions Submission.
0200028 | NSPS | WWW, A | Municipal Solid Waste Landfill and Krysol Process.
0200029 | NSPS | Ce | Method 23 Sampling Time.
0200030 | NSPS | BB | Parallel Brown Stock Washer Systems.
0200031 | NSPS | GG | Part 60 and Part 75 Continuous Emission Monitoring Quality Assurance/Quality Control Inconsistencies.
0200032 | NSPS | GG | Custom Fuel Monitoring Schedule.
0200033 | NSPS | GG | Alternate Performance Test Method for Gas Turbine.
0200034 | NSPS | GG | Alternate Performance Test Method for Gas Turbine.
0200035 | NSPS | A, GG | Alternate Performance Test Method for Gas Turbine.
0200036 | NSPS | GG | Alternative Fuel Analysis for Testing Nitrogen Content.
C020003 | CFC | F | Interpretation of Refrigerant Disposal.
M020005 | MACT | R | Gasoline Vapor Combustion Unit.
M020006 | MACT | S | Applicability to Mill without Virgin Pulping or Bleaching.
M020007 | MACT | RRR | Stand-Alone Aluminum Shredding Devices.
Z020001 | NESHAP | L, V | Tar Pitch Traps.
0200038 | NSPS | GG | Alternative Monitoring Procedures.
0200039 | NSPS | Dc | Fuel Usage Monitoring.
0200040 | NSPS | CCCC | Air Curtain Incinerator at Residential Construction Site.
0200041 | NSPS | GG | Initial Performance Testing Using Base Load Only.
0200042 | NSPS | GG | Alternative Testing and Monitoring.
0200043 | NSPS | H | Sulfuric Acid Plant as Control Device.
0200044 | NSPS | A, Kb | Modification of Petroleum Storage Vessels.
0200045 | NSPS | RR | Applicability to Electrode Process Line.
0200046 | NSPS | A, Dc | Modification of a Small Industrial, Commercial, Institutional Steam Generating Unit.
0200047 | NSPS | A | Replacement of Boiler Wall.
0200048 | NSPS | A | Reconstruction of Oil-Fired Boiler.
0200049 | NSPS | VV | Equipment Leaks of Volatile Organic Compounds at a Synthetic Organic Chemicals Manufacturing Industry Facility.

Abstracts

Abstract for [M020003]

Q1: Is the monitoring that Gulf Coast Metals has proposed as an alternative to installation of an opacity monitor or a broken bag detector on two rotary furnaces at its secondary aluminum plant in Hillsborough County, Florida acceptable?

A1: No. Because the company did not address several of the submittal requirements in 40 CFR 63.1510(w), an alternative monitoring approach cannot be approved at this time.

Q2: Can the initial performance test required for the rotary furnaces be waived?

A2: Although the authority to approve performance test waivers under 40 CFR part 63 has been delegated to the Florida Department of Environmental Protection, Region 4 recommends that the request be denied since low opacity alone will not ensure compliance with the applicable particulate mass emission standard.

Abstract for [M020004]

Q: May a Portland Cement facility use an alternative initial performance testing and monitoring for inaccessible, totally enclosed, and partially enclosed conveyor system transfer points (CSTPs) and storage bins under NESHAP subpart LLL? This request includes alternative initial performance testing and monitoring for sources inside buildings.

A: A Portland Cement facility may use alternative initial performance testing and monitoring for inaccessible, totally enclosed, and partially enclosed CSTPs and storage bins. However, for alternative initial performance testing inside buildings, the EPA Regional Office has not been delegated the authority to approve the request.

Abstract for [0200001]

Q1: Will EPA approve a request for an alternative monitoring plan to be used during bypasses of the sulfur recovery units to unmonitored stacks?

A1: No. EPA will not approve this request because the alternative monitoring plan would not make representative measurements of the sulfur dioxide emissions during bypasses of the sulfur recovery units to unmonitored stacks.

Q2: Will EPA approve a request for an alternative monitoring plan to be used during bypasses of the tail gas treating units to unmonitored stacks?

A2: No. EPA will not approve this request because the alternative monitoring plan would not make representative measurements of the sulfur dioxide emissions during bypasses of the tail gas treating units on sulfur recovery units to unmonitored stacks.

Abstract for [0200002]

Q: Will EPA grant a waiver from the operating temperature of 55.0 degrees Celsius in 40 CFR 60.753(c)?

A: EPA will grant a waiver to 65.6 degrees Celsius for certain wells that show high methane production, low oxygen, carbon monoxide levels below 100 ppm, and no charred debris in the gas collection system.

Abstract for [0200003]

Q: Is a duct burner (along with the associated heat recovery steam generator) that is too small to be covered under NSPS subpart Da covered by NSPS subpart Db?

A: Yes, if it meets the definition of an affected facility under NSPS subpart Db. NSPS subpart Db was intentionally written to be very broad in nature as to what constitutes an affected facility.

Abstract for [0200004]

Q1: What is the definition of excess emissions for reporting and compliance purposes under NSPS subpart G?

A1: Excess emissions under NSPS Subpart G are defined as any three-hour period during which the average nitrogen oxides emission rate exceeds the 1.5 kilograms per metric ton (3.0 pounds per ton) emission limit in 40 CFR 60.72(a)(1).

Q2: Do excess emissions constitute a violation of the standard in NSPS subpart G?

A2: Under the “any credible evidence” provisions in 40 CFR 60.11(g), the continuous emission monitoring (CEMS) data used for excess emission reporting can be used to cite violations for any three-hour period(s) during which the CEMS data indicate that emissions would have been in excess of the applicable standard had a performance test been conducted.

Q3: If excess emissions do constitute a violation of the standard in NSPS Subpart G, how are the averaging time and the duration of the violation determined?

A3: Since the emission limit has an averaging time of three hours, CEMS data must be averaged over a three-hour period in order to determine whether the nitrogen oxides emission rate has exceeded the applicable limit. A single three-hour period during which the average emission rate exceeds the limit would be reported as three hours of excess emissions. If there are consecutive, overlapping three hour periods during which the average nitrogen oxides emission rate exceeds the applicable limit, the duration of the excess emission period should be determined based upon the number of hours between the beginning and the end of the exceedance period.

Q4: Does 40 CFR 60.8(c) allow violations during nitric acid plant startups, and, if so, are facilities exempt from enforcement for violations of the standard during startup?

A4: Since NSPS subpart G does not include language specifically indicating that the nitrogen oxides limit applies at all times, facilities would be exempt from the limit during startup under the provisions in 40 CFR 60.8(a). Although facilities are exempt from the emission limit during startup, facility owners and operators could be cited for a violation of 40 CFR 60.11(d) if steps to minimize emissions are not taken during startup, shutdown, and malfunction.

Q5: If 40 CFR 60.8(c) does provide an exemption from enforcement during startups, is there any time limit associated with the exemption?

A5: Although NSPS subpart G does not specify a limit on the amount of time that a facility is exempt from the nitrogen oxides emission limit during startup, enforcement under the provisions in 40 CFR 60.11(d) can be pursued if steps are not taken to minimize emissions during startup regardless of the duration of the excess emission period.

Abstract for [0200005]

Q1: Are proposals to reduce the frequency for fuel usage recordkeeping at National Linen Services and the University of West Florida acceptable?

A1: Yes. The proposed alternative recordkeeping and reporting frequencies are consistent with those that EPA has previously approved for other facilities. If the University of West Florida does not have a separate gas meter for its NSPS subpart Dc boiler, it will be necessary to obtain approval for a way of apportioning the University's total gas usage in order to determine the amount of fuel burned in the NSPS subpart Dc unit.

Q2: Can future proposals for alternative fuel usage recordkeeping frequencies be approved by the Florida Department of Environmental Protection without being submitted to EPA Region 4 for case-by-case reviews?

A2: Yes. Based upon the history of previous EPA approvals, there is no environmental benefit associated with submitting future proposals to EPA for case-by-case reviews if records will be kept on at least monthly basis, reports will be submitted on at least an annual basis, and an appropriate apportionment approach will be used when the total amount of fuel burned in multiple gas-fired units is measured with a common gas meter.

Abstract for [0200006]

Q: Is the ASTM Test Method D5504-98 method an acceptable alternative method for determining the sulfur content of the natural gas burned in stationary gas turbines at four compressor stations located in Florida?

A: Yes. The proposed alternative method is acceptable. Also, the results of sampling conducted at one compressor station can be used for turbines at multiple compressor stations provided that no new gas enters the pipeline between the stations in question.

Abstract for [0200007]

Q: Is ASTM Test Method D5504-98 method an acceptable alternative method for determining the sulfur content of the natural gas burned in stationary gas turbines at four compressor stations located in Florida?

A: Yes. The proposed alternative method is acceptable. Also, the results of sampling conducted at a compressor station in Florida can be used for the turbines at a compressor station in Mount Vernon, Alabama, provided that no new gas enters the system between these stations.

Abstract for [0200008]

Q: Is an alternative monitoring approach proposed by General Electric Plastics (GEP) for a phosgene monitoring system on a distillation operation at its plant in Burkville, Alabama acceptable under NSPS subpart NNN?

A: Yes. GEP must obtain approval for an alternative monitoring approach because NSPS subpart NNN does not specify monitoring procedures for the type of control system used by the company. Issues addressed in the approval letter include the measurement range of the phosgene monitoring system, the basis for waiving the requirement to correct analyzer results to three percent oxygen, acceptable procedures for calculating three-hour average emission rates, and the analyzer calibration frequency.

Abstract for [0200009]

Q1: Is the Georgia Pacific Corporation (GPC) proposal to monitor scrubber liquid flow rate more acceptable than monitoring the pressure drop for the scrubber installed on a lime kiln at a kraft pulp mill in New Augusta, Mississippi to comply with NSPS Subpart BB?

A1: Yes. Based upon the design of the scrubber installed on the lime kiln, the proposed alternative monitoring parameter will be a better indicator of control device performance than pressure drop will be.

Q2: Will EPA waive the requirement to monitor the combustion temperature of the power boiler used to destroy the total reduced sulfur compounds contained in non-condensable gas streams at a kraft pulp mill?

A2: Yes. Because the non-condensable gas streams generated at the mill are burned in a power boiler, rather than an incinerator, combustion temperature monitoring is not required under NSPS subpart BB.

Abstract for [0200010]

Q1: Will EPA grant an initial performance testing extension requested by the Gainesville Regional Utilities for Combined Cycle Unit No. 1 at the J.R. Kelly Generating Station to comply with NSPS subparts A and GG?

A1: Yes. Unit No. 1 will not be capable of operating until the reinstallation of parts that were returned to the manufacturer for repairs. Therefore, the deadline for completing an initial performance can be extended for up to 720 operating hours following the restart of the unit.

Q2: Can certification testing for the continuous emission monitoring systems installed on Unit No. 1 be delayed for up to 30 days beyond the completion date of the initial performance test on the unit?

A2: Yes. The proposed schedule for monitor certification is consistent with the provisions in 40 CFR 60.13(c).

Q3: Can the requirement to provide notification at least 30 days prior to conducting the initial performance test be waived?

A3: Conditional. Providing less than 30 days prior notification is acceptable provided that it does not prevent the Florida Department of Environmental Protection from observing the testing.

Abstract for [0200011]

Q: Will EPA grant an initial performance testing extension requested by Gainesville Regional Utilities (GRU) for Combined Cycle Unit No. 1 at the J.R. Kelly Generating Station to comply with NSPS subparts A and GG?

A: No. Because 40 CFR part 60 does not contain provisions for extending the initial performance testing deadlines in 40 CFR 60.8(a), GRU is technically in violation of the requirement to complete an initial performance test within 60 days after reaching the maximum firing rate on Unit No. 1. Because the turbine operating problems that have delayed the performance testing are largely out of GRU's control, it is recommended that a decision regarding whether to pursue enforcement for missing the testing deadline be deferred until after the testing is actually completed.

Abstract for [0200012]

Q: Must NSPS Subpart OOO sources in Kentucky submit notifications and reports to U.S. EPA Region 4?

A: No. Because NSPS subpart OOO has been delegated to the Kentucky Department for Environmental Protection and to the Air Pollution Control District of Jefferson County, submitting notifications and reports to these agencies will be sufficient.

Abstract for [0200013]

Q: Is an alternative sulfur dioxide monitoring proposal for Units 1 and 2 at the Jacksonville Electric Authority (JEA) Northside Generating Station acceptable to comply with NSPS subpart Da?

A: No. In order for the alternative monitoring approach to be approved, it must contain a provision for initiating daily as-fired coal sampling in the event that the 30-day average sulfur dioxide removal efficiency calculated ever drops below 80 percent. In addition, it will be necessary for JEA to measure the pre-control sulfur dioxide emission rate for at least 30 consecutive boiling operating days in order to collect the data needed to satisfy the requirements for an initial performance test.

Abstract for [0200014]

Q: Is an initial performance testing extension requested by the Jacksonville Electric Authority (JEA) for a combustion turbine at its Brandy Branch installation acceptable to comply with NSPS subparts A and GG?

A: No. Because 40 CFR part 60 does not contain provisions for extending the initial performance testing deadlines in 40 CFR 60.8(a), JEA is technically in violation of the requirement to complete an initial performance test within 60 days after reaching the maximum firing rate on Unit 1. Because the turbine operating problems that have delayed the performance testing are largely out of JEA's control, a decision regarding whether to pursue enforcement for missing the testing deadline should be deferred until after the testing is actually completed.

Abstract for [0200015]

Q: Is an initial performance testing extension requested by the City of Tallahassee for Unit No. 8 at its Purdom Generating Station acceptable to comply with NSPS subparts A and GG?

A: Yes. Unit Number 8 will not be capable of sustained operation until the cause of vibrations during oil firing is identified and corrected. Therefore, the deadline for completing an initial performance can be extended for up to 720 operating hours following the restart of the unit on oil.

Abstract for [0200016]

Q: Does a gas vent flare, which is sometimes referred to as a “candle flare” because it has a constant sparking device at the flare tip, meet the requirements of 40 CFR 60.18(f)(2)?

A: No. EPA does not consider open (or candle) flares with constant sparking devices to be equivalent to the thermocouple, ultraviolet beam sensor requirements for flares found at 40 CFR 60.18(f)(2).

Abstract for [0200017]

Q: Is a process printing machine subject to the NSPS subpart RR regulations for pressure sensitive tape and label materials coating?

A: Yes. The printing machine meets the definition of “precoat” under 40 CFR 60.441(a).

Abstract for [0200018]

Q: Will EPA approve ASTM Test Method D5762-01 to monitor nitrogen content for turbines?

A: Yes. This test method has the necessary reproducibility and repeatability and accuracy to be used in lieu of ASTM Test Method D3228 for the monitoring requirement under NSPS subpart GG.

Abstract for [0200019]

Q: Will EPA grant a waiver from the initial performance test required in NSPS subpart WWW, for landfill gas used in a large process heater (more than 44 megawatts)? The landfill gas is to be compressed, filtered, and refrigerated before being sent to the process heater.

A: Yes. EPA considers compressing, filtering, and refrigerating landfill gas for use in an energy recovery project to be “treatment” under NSPS subpart WWW. Therefore, no initial performance test is required.

Abstract for [0200020]

Q: Will EPA approve a 7-day drift test at less than 50% capacity boiler operation to comply with NSPS subpart A?

A: If the normal operation of the boilers is to operate at less than 50% capacity, EPA can approve a lower boiler operation in accordance with statements made in the Agency's Emission Measurement Center Guideline Document covering Appendix B, Performance Specification 2, under the definition of “normal” load.

Abstract for [0200021]

Q1: Will EPA allow a company with combined-cycle natural gas-fired turbines to sample fuel sulfur content on a quarterly basis during the next 12 months of operation with semiannual monitoring for all subsequent years to comply with NSPS subpart GG?

A1: Yes, but only if pipeline natural gas, as defined in 40 CFR 72.2, is the only fuel being burned. The company must substantiate its request with sulfur monitoring data below the sulfur standard, with little variability. This data must be collected with a test method approved under 40 CFR 60.335(d). The custom fuel monitoring schedule is based on the schedule provided in a 1987 policy memorandum from the Office of Air Quality Planning and Standards (OAQPS).

Q2: Will EPA waive the nitrogen fuel monitoring requirement for a facility with combined-cycle natural gas-fired turbines proposes?

A2: Yes. EPA will not require monitoring of fuel nitrogen content while pipeline natural gas, as defined in 40 CFR 72.2, is the only fuel fired in the gas turbine. This is based on a 1987 policy memorandum from OAQPS.

Abstract for [0200022]

Q1: Will EPA allow a company with combined-cycle natural gas-fired turbines to waive the water-to-fuel monitoring requirement in 40 CFR 60.334(a)?

A1: No. EPA will not waive the water-to-fuel monitoring requirement in 40 CFR 60.334(a). However, EPA will allow the facility to use certified CEMs to monitor NOX emissions as an alternative to monitoring the water-to-fuel ratio to demonstrate compliance with 60.334(a).

Q2: Is it acceptable for a company with combined-cycle natural gas-fired turbines to use ASTM Test Method D 5504-94 to measure the fuel sulfur content?

A2: No. The ASTM test methods that are accepted in 40 CFR 60.335(d) have experimental results for repeatability or reproducibility which ASTM Test Method D 5504-94 and ASTM Test Method D 5504-98 do not.

Q3: Is it acceptable for a company with combined-cycle natural gas-fired turbines to use a custom fuel monitoring schedule?

A3: Yes, but only if pipeline natural gas, as defined in 40 CFR 72.2, is the only fuel being burned. The company must substantiate its request with sulfur monitoring data below the sulfur standard and showing little variability. This data must be collected with a test method approved under 40 CFR 60.335(d). The custom fuel monitoring schedule is based on the schedule provided in a 1987 policy memorandum from the Office of Air Quality and Planning Standards.

Abstract for [0200023]

Q: May the GPA Test Method 2377-86 be used in lieu of approved ASTM test methods for analyzing the sulfur content of natural gas?

A: Yes. The GPA test method entitled “Test for Hydrogen Sulfide and Carbon Dioxide in Natural Gas Using Length of Stain Tubes” (GPA Standard 2377-86) is an alternative method that EPA has approved for other facilities that combust pipeline quality natural gas.

Abstract for [0200024]

Q1: May the quality assurance/quality control (QA/QC) requirements of part 75 be used to satisfy NSPS QA/QC requirements for CEMs at a boiler unit that operates as a peaker?

A1: Yes. NSPS subpart A requires Relative Accuracy Test Audits (RATA) once every four consecutive calendar quarters for CEMs at a continuously operated boiler unit. For an infrequently operated unit, EPA's Acid Rain Program rules at part 75 may be used in lieu of NSPS requirements, subject to certain conditions.

Q2: May low emission rate criteria adopted under part 75 rules be used during the RATA?

A2: No. In this case, a problem with past RATA testing had been addressed, so it is no longer necessary to rely on the low emission rate provisions.

Q3: May we use diluent capping procedures of part 75?

A3: No. It is better to provide regulatory agencies with the actual data, even when the F-factor used creates an inaccuracy in the emission calculations. Moreover, during periods of startup, shutdown, and malfunction, the source is not subject to the nitrogen oxide emissions standards as set forth at § 60.46a(c). The regulatory agencies will review the data to determine whether the numbers, in fact, represent excess emissions.

Abstract for [0200025]

Q: How is a landfill that is a Superfund site affected by the Federal Plan for landfills, when it would otherwise be considered subject to the Plan?

A: The site is governed by a Federal consent decree. Through the incorporation of the Record of Decision (ROD), the consent decree establishes the applicable or relevant and appropriate requirements (ARARs) for the landfill in accordance with the Comprehensive Environmental Response, Compensation and Liability Act (CERCLA). The ROD remedy included the installation of a landfill gas collection and control system at the JDF. During future 5-year reviews of the remedy, it may be appropriate to consider some aspect of Federal Plan requirements to ensure that the selected remedy remains protective of human health and the environment.

Abstract for [0200026]

Q1: Is it acceptable for a company with simple-cycle natural gas-fired turbines to use an on-site sulfur gas chromatograph that uses ASTM Test Method D 5504-94 to measure the fuel sulfur content?

A1: No. The ASTM test methods that are accepted in 60.335(d) have experimental results for repeatability or reproducibility which ASTM D 5504-94 and ASTM D 5504-98 do not.

Q2: Is it acceptable for a company to use the Gas Processors Association (GPA) test method entitled “Test for Hydrogen Sulfide and Carbon Dioxide in Natural Gas Using Length of Stain Tubes” (GPA Standard Test Method 2377-86) as a backup to using the on-site sulfur gas chromatograph and ASTM Test Method D 5504-94 to demonstrate compliance with 40 CFR 60.333(b)?

A2: No. Based on the answer to the first question, EPA will not allow the facility to use GPA Standard Test Method 2377-86 as a backup test method.

Abstract for [0200027]

Q: How late will EPA accept the Tier 2 and Tier 3 testing options contained in NSPS subpart WWW for municipal solid waste (MSW) landfills?

A: EPA cannot consider Tier 2 or Tier 3 testing after the NSPS final compliance deadline.

Abstract for [0200028]

Q: Are landfill gases treated by the Krysol gas treatment process subject to the NSPS subpart WWW for municipal solid waste landfills?

A: No. Gases that have been treated by the Krysol gas treatment process, which includes compression, drying, and removal of CO2 and other contaminants, are not subject. Nevertheless, any waste gases that would be vented from the treatment process to the atmosphere, whether vented to the on-site internal combustion engine, the thermal oxidizer, or the open flare, must meet the appropriate control requirements.

Abstract for [0200029]

Q: Is the proposal to shorten the sampling time for dioxin testing on the medical waste incinerators at the Children's Hospital and at American 3CI from fours hours to one hour acceptable to comply with NSPS subpart Ce?

A: Conditionally acceptable. Based upon the magnitude of the applicable dioxin standard for the facilities in question, the detection limit for a one-hour sample should be low enough for verifying compliance. In order to reduce the possibility that a retest will be needed, however, the testing contractor should verify this using the actual detection limit for the laboratory that will be analyzing the samples from these facilities.

Abstract for [0200030]

Q1: Do an existing and a new brown stock washer operating in parallel constitute a single affected facility or two separate affected facilities under NSPS subpart BB?

A1: Based upon the definitions in NSPS subpart BB, the parallel brown stock washers constitute a single affected facility.

Q2: If the parallel brown stock washers constitute a single facility, how would modification and reconstruction issues be addressed when the new brown stock washer is installed?

A2: For reconstruction, if the existing brown stock washer is permanently taken out of service, the cost of the new brown stock washer must be considered when determining whether reconstruction has occurred. For modification, an increase in the brown stock washer system throughput or the total reduced sulfur emission rate following the installation of the new brown stock washer would constitute a modification which would trigger the applicability of NSPS subpart BB.

Abstract for [0200031]

Q: The Berkshire Power, LLC's Agawam, Massachusetts facility is subject to NSPS subpart GG and to the federal Acid Rain requirements in part 75. How should the Massachusetts Department of Environmental Protection (MDP) resolve some 40 CFR part 60 and 40 CFR part 75 CEM requirement inconsistencies?

A: EPA Region 1 recognizes that for facilities with very low NOX emission limits in their New Source Performance (NSR) /Prevention of Significant Deterioration (PSD) permits, some of the relative accuracy limits and ranges in parts 60 and 75 may not be appropriate. After consultation with OAQPS, EPA Region 1 has tried to provide reasonable alternatives in this letter.

Abstract for [0200032]

Q: Will EPA approve a custom fuel monitoring schedule under NSPS Subpart GG for a facility?

A: Yes. EPA will approve the custom fuel monitoring schedule according to an August 14, 1987, national policy which allows the EPA Regional Offices to approve NSPS subpart GG custom fuel monitoring schedules on a case-by-case basis. In this case, approval is based on the understanding that there is no fuel-bound nitrogen and that the available free nitrogen does not appreciably contribute to NOX emissions.

Abstract for [0200033]

Q: Will EPA allow the use of an alternate performance test method for stationary gas turbines subject to NSPS Subpart GG?

A: Yes, but only if the probe is designed and conforms to the tests specified in EPA Guideline Document GD-031.

Abstract for [0200034]

Q: Will EPA allow the use of an alternate performance test method for stationary gas turbines subject to NSPS subpart GG?

A: Yes, but only if the probe is designed and conforms to the tests specified in EPA Guideline Document GD-031.

Abstract for [0200035]

Q1: Will EPA allow the use of an alternate performance test method for stationary gas turbines subject to NSPS Subpart GG?

A1: Yes. However, EPA must approve modifications to test methods prior to their use. In this case, EPA approves the modification because it believes that this is a minor modification that will generate acceptably accurate data.

Abstract for [0200036]

Q: Will EPA allow an alternative fuel analysis method for testing nitrogen content in distillate fuel to comply with NSPS subpart GG?

A: Yes. EPA will allow an alternative fuel analysis method, but only if the method can be shown to determine the nitrogen content with an accuracy of within 5 percent. In this case, information the facility submitted to EPA from its laboratory failed to demonstrate that the alternative method could meet the precision criteria.

Abstract for [C020003]

Q1: At what point in the final disposal process is a final disposal facility violating 40 CFR 82.156(f) if a charged small appliance is found by an EPA inspector during a compliance inspection?

A1: EPA believes that a violation of 40 CFR 82.156(f) occurs if a charged appliance is found after the last reasonable inspection point in the disposal process. EPA also believes that the “final step” in the disposal process may occur even though the disposal facility has not staged an appliance for destruction or placed an appliance in a staging area for destruction.

Q2: Under what circumstance is a statement of evacuation the only verification required under 40 CFR 82.156(f) by a final disposal facility before the final step in the disposal process can occur without violating 40 CFR 82.156(f)? According to the final rule preamble (58 FR 28704) a certification accepted “in good faith” relieves the disposal facility of its liability. If however, the entity “knows or should know that refrigerant remains in the appliance,” it will still be held liable.

A2: The Agency believes that verification statements of evacuation accepted in good faith by a disposal facility satisfies the requirements of 40 CFR 82.156(f)(2).

Q3: Is a verification statement required for each and every appliance accepted by the final disposal facility if the facility has a contract with a supplier stipulating that all refrigerant will be removed from appliances prior to delivery? Is a long term (more than 1 shipment) contract all that is required under 40 CFR 82.156(f) as verification of refrigerant evacuation?

A3: If the final disposal facility chooses not to recover remaining refrigerant from appliances, verification must include a signed statement of evacuation from the person from whom the appliance is received. Final disposal facilities may also accept statements of evacuation for shipments of appliances. Regular suppliers to a final disposal facility, with whom long-standing business relationships are maintained, may sign a contract that stipulates that one party has the responsibility to remove refrigerant from equipment before delivery to the facility.

Q4: Is a statement of evacuation accepted under 40 CFR 82.156(f)(2), which is missing any information listed as required in 40 CFR 82.156(f), a violation of 40 CFR 82.156(f)(2)? Does a violation of 40 CFR 82.156(f) occur if a company has or may have the missing information in other company records?

A4: The Safe Disposal Program regulations require that certain specific information must be included as part of any statement of evacuation. 40 CFR 82.156(f)(2) is very clear concerning the information that must be part of any statement of evacuation. Any information required by the regulation that is missing from a statement of evacuation is a violation of 40 CFR 82.156(f)(2).

Q5: Are there any circumstances under which a final disposal facility would be violating the reporting and recordkeeping requirements of 40 CFR 82.156(f) if an empty small appliance is found by an EPA inspector in a staging area during a compliance inspection?

A5: For empty appliances, as for all appliances, the disposal facility must recover the refrigerant or obtain a signed statement which meets the requirements of 40 CFR 82.156(f)(2) from the person delivering the appliance. This statement must be obtained prior to placing the appliance in the final staging area for disposal.

Abstract for [M020005]

Q: Would EPA classify the John Zink Gasoline Vapor Combustion Unit as a thermal oxidization system or a flare?

A: In previous applicability determinations for similar units, EPA has determined that these types of units should be classified as thermal oxidation systems. Therefore, these units are subject to the temperature monitoring requirements of 40 CFR 63.427(a)(3). EPA had only intended for the flare monitoring requirements of 40 CFR 63.427(a)(4) to apply to open flame flares.

Abstract for [M020006]

Q: If a facility purchases fibers (wood pulp, cotton, fiber glass, burlap, and hemp) and additives to produce a variety of paper products, but the paper mill neither produces virgin pulp nor operates a bleach system, is it subject to NESHAP subpart S?

A. No. If the paper mill does not contain a pulping or bleaching system as defined 40 CFR 63.441, then the mill does not contain an affected source as defined under NESHAP subpart S, and the facility is not subject to NESHAP subpart S.

Abstract for [M020007]

Q: Does NESHAP subpart RRR apply to stand-alone aluminum shredding devices where no further processing or charging is done on-site or at another facility?

A: No. The stand-alone aluminum shredding device would not meet the definition of “aluminum scrap shredder” at 40 CFR 63.1503 and would not be subject to NESHAP subpart RRR.

Abstract for [Z020001]

Q: Are tar pitch traps in metallurgical coke plants subject to 40 CFR part 61, subparts L and V?

A: Based on the information submitted in this case, the tar decanter pitch traps are not subject to either NESHAP subpart L or NESHAP subpart V as the amount of benzene in the stream is not high enough to qualify as “in benzene service” under NESHAP subpart V and the equipment is not a tar decanter, tar intercepting sump or tar storage tank as understood by NESHAP subpart L.

Abstract for [0200038]

Q: Will EPA approve alternative monitoring procedures under subpart GG for stationary gas turbines used for peaking purposes?

A: Yes. EPA will approve alternative monitoring procedures consistent with its 1987 Policy on custom fuel monitoring plans. Approval in this case is contingent on the fact that only clean fuels will be combusted (as specified in State permits) and that a certified Continuous Emission Monitoring system will be used.

Abstract for [0200039]

Q: Will EPA allow QVC, Inc. to do monthly rather than daily fuel usage monitoring under NSPS subpart Dc?

A: Yes. Under circumstances such as those in this case, EPA has allowed the use of monthly rather than daily fuel usage monitoring for very small boilers combusting natural gas as the primary fuel.

Abstract for [0200040]

Q: Does EPA consider an air curtain incinerator located at a residential construction site a commercial or industrial facility under NSPS subpart CCCC?

A: No. EPA has determined that an air curtain incinerator located at a residential construction site is not considered an industrial or commercial “facility” since the incinerator is not permanently located at the site. Neither is the residential construction site itself a permanent industrial or commercial “facility”. Therefore, NSPS subpart CCCC, the commercial and industrial solid waste incineration regulations, do not apply to the air curtain incinerator at the residential construction site.

Abstract for [0200041]

Q: Will EPA allow a source to conduct the initial NOX performance testing at base load only instead of at all four loads under NSPS subpart GG?

A: Yes. EPA will allow the testing to be conducted at base load only under the following conditions: the turbine burns pipeline natural gas, the NOX CEM system provides a continuous record of emissions, and the base load is the peak load.

Abstract for [0200042]

Q1: Will EPA allow a source to conduct the initial NOX performance testing at base load only instead of at all four loads under NSPS subpart GG?

A1: Yes. EPA will allow the testing to be conducted at base load only under the following conditions: the turbine burns pipeline natural gas, the NOX CEM system provides a continuous record of emissions, and the base load is the peak load.

Q2: Will EPA approve the use of a CEM to monitor NOX emissions on a source which uses water injection to control NOX and be required to continuously correct the data to ISO standard ambient conditions?

A2: Yes. EPA approves the use of a CEM, and the source does not have to correct the CEM data to ISO standards because it has demonstrated that the emissions are well below the standard.

Q3: Will EPA allow semiannual monitoring frequency for sulfur content under a custom fuel monitoring plan?

A3: Yes. If the source has demonstrated low data variability and sulfur content results which are below the standard and follows a schedule.

Abstract for [0200043]

Q: Is a sulfuric acid plant that is installed as a control device for sulfur dioxide emissions from a molybdenum ore roasting operation subject to NSPS subpart H?

A: No. The definition for “sulfuric acid production unit” in NSPS subpart H does not include facilities where a sulfuric acid plant is used “primarily” to control sulfur dioxide emissions. However, this determination is subject to reevaluation if a significant change occurs at the facility in question. In addition, EPA Region 7 clarifies and corrects a previous determination for this facility made with input from the Office of Enforcement and Compliance (OECA). In a letter to Iowa Department of Natural Resources (IDNR) dated June 3, 1996, EPA stated that the exemption in the definition of “sulfuric acid production unit” in NSPS subpart H applied to acid plants used only as an emission control device and that the introduction of any elemental sulfur would change the acid plant from an emission control device to a sulfuric acid production process. The guidance provided by OECA at that time was derived from a narrow application of the regulation, without any research into the background documents or the process chemistry involved in acid production plants, both for production and process control. Therefore, this interpretation supercedes and corrects the previous one.

Abstract for [0200044]

Q1. Does a change in liquid service of a storage vessel at a facility from a low vapor pressure material (stormwater or diesel fuel) to a high vapor pressure material (crude oil or gasoline) constitute a modification under 40 CFR 60.14?

A1. In recent determinations, EPA found the activity of a petroleum vessel storage facility changing the type of petroleum product stored (i.e., diesel fuel to gasoline) was equivalent to the use of an alternative fuel and exempted from the definition of modification as provided in 40 CFR 60.14(e)(4). These determinations were based on the assumption that petroleum products were essentially equivalent and, therefore, any petroleum storage vessel could reasonably accommodate an alternative petroleum product. Please note that EPA's determinations only pertained to petroleum storage vessels. A storage vessel converting from water or other non-petroleum liquid storage over to petroleum storage would not be exempted from the NSPS modification definition. With regard to the example, EPA would find the activity of a vessel changing from diesel fuel storage to gasoline storage was not a modification as defined in 40 CFR 60.14 and, therefore, the vessel would not be subject to the NSPS subpart Kb.

Q2. What are the specific criteria for determining whether a vessel was designed to accommodate an alternative use? If the original construction specifications are not available, how is such a determination made?

A2. EPA did not develop any specific criteria for determining if a fuel storage vessel could accommodate an alternative petroleum material in these determinations. As described previously, EPA's determinations centered on assuming that petroleum products are similar and that a petroleum storage vessel could reasonably accommodate different types of petroleum products. However, if EPA did receive a request for a determination on a specific storage vessel significantly altering its design to accommodate an alternative petroleum product, EPA may adjust its determination considering the specific facts of the case.

Abstract for [0200045]

Q. Is the electrode process line of a facility that produces medical EKG electrodes subject to the requirements of the NSPS subpart RR?

A. Yes. Upon review, EPA finds that the electrode process line would be subject to the requirements of NSPS subpart RR. The subpart's applicability provision states the provisions of this subpart apply to an affected facility whose coating line is used in the manufacture of pressure sensitive tape and label materials. Pressure sensitive tape includes “any” adhesive that coats a web substrate including adhesive gels with pressure sensitive properties. Our understanding is that the medical EKG electrode uses an adhesive gel and is applied to the skin through pressure. Consequently, the Region has determined that NSPS subpart RR is applicable to the process line producing these electrodes.

Abstract for [0200046]

Q. A facility has modified two 13.9 MMBtu/hr wood-fired boilers. Would the boiler modifications constitute a modification as defined in NSPS subpart A, and thereby, make the facility subject to NSPS subpart Dc?

A. No. The physical changes do not constitute a modification as specified in 40 CFR 60.14. Thus, the boilers at issue are not subject to the requirements of NSPS subpart Dc. The physical modifications of the boilers increased their heat input capacity and likewise their potential to emit for all pollutants; however, pollution prevention controls were simultaneously instituted that in fact caused a reduction of particulate matter emission rate. Sulfur dioxide emission rates were increased by increasing the heat input capacity of the wood-fired boilers; however, sulfur dioxide emissions from wood-fired boilers are relatively small (.02 lb/MMBtu) and in fact are not covered by the sulfur dioxide standard of NSPS subpart Dc that pertains only to units using coal or oil fuel. Thus, the sulfur dioxide emission rates are not applicable to these wood-fired boilers and the physical changes do not constitute a modification.

Abstract for [0200047]

Q. A facility submitted an amendment application to its air emissions license for the replacement of the existing tangential overfire air system in Power Boiler No. 1 with an “Opposed Wall” system. Does this replacement constitute an NSPS modification as defined in 40 CFR 60.14?

A. No. This project is not considered a modification and is exempt from additional NSPS requirements. This system does not affect any of the emission limits nor does it increase emissions nor increase the production capacity of the boiler. Replacements such as this are not considered modifications and are exempt from NSPS requirements.

Abstract for [0200048]

Q1. Do internal costs of engineering and installation constitute “fixed capital costs” even though a company would typically not capitalize them, or are only external contractor and consultant fees counted as fixed capital costs under 40 CFR part 60, subpart A?

A1. In a May 11, 1998 applicability determination pertaining to reconstruction costs, EPA stated that the engineering, purchase and installation costs, and contractor fees should be included in the affected facility reconstruction costs (i.e., fixed capital cost) to the extent that they are associated with reconstruction of affected process equipment.

Q2. Do the repair and ultimate replacement of a rear boiler wall constitute “fixed capital costs” even though these costs were expensed?

A2. The failed repair attempts should not be included in fixed capital costs; however, the costs of actual replacement of the rear boiler wall should be included in the fixed capital costs.

Q3. What is meant by “comparable entirely new facility” in the definition of reconstruction under NSPS subpart A? When evaluating the costs associated with a comparable entirely new facility to replace the boiler, should the cost of installing a low NOX burner be included?

A3. The term “comparable entirely new facility” would consist of a new boiler with identical components to the repaired boiler. Reconstruction calculations do not include air pollution control equipment; therefore, the source would not include the cost of installing low NOX burners on the new facility unless they are being added to the existing facility.

Abstract for [0200049]

Q. Is a Synthetic Organic Chemicals Manufacturing Industry (SOCMI) facility that produces heavy liquid chemicals only from heavy liquid feed or raw material subject to the NSPS subpart VV?

A. Yes. The SOCMI facility is subject to NSPS subpart VV. However, the facility only needs to comply with the recordkeeping and reporting provisions of NSPS subpart VV since it meets the exemption definition under 40 CFR 60.480(d)(3). In addition, the facility is exempt from the SOCMI facility standard in 40 CFR 60.482 since it produces heavy liquid chemicals only from heavy liquid feed or raw material as defined in 40 CFR 60.480(d)(3).

Dated: August 30, 2002.
Michael M. Stahl,
Director, Office of Compliance.

[FR Doc. 02-23367 Filed 9-12-02; 8:45 am]

BILLING CODE 6560-50-P